OFFICE OF PERSONNEL MANAGEMENT

5 CFR Part 532

RIN 3206-AL45

Prevailing Rate Systems; North American Industry Classification System Based Federal Wage System Wage Area

AGENCY: U.S. Office of Personnel Management.

ACTION: Proposed rule with request for comments.

SUMMARY: The U.S. Office of Personnel Management is issuing a proposed rule that would update the 2002 North American Industry Classification System (NAICS) codes currently used in Federal Wage System wage survey industry regulations with the 2007 NAICS revisions published by the Office of Management and Budget.

DATES: We must receive comments on or before February 19, 2008.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: On June 20, 2006, the U.S. Office of Personnel Management (OPM) issued a final rule (71 FR 35373) which replaced all Standard Industrial Classification codes in the Federal Wage System (FWS) with the most closely corresponding North American Industry Classification System (NAICS) codes, published by the Office of Management and Budget (OMB). OPM's current regulations use 2002 NAICS codes. OMB has now published the NAICS revisions for 2007, which result in certain changes in industry coverage for FWS wage surveys.

The following sections of title 5, Code of Federal Regulations, list the industries included in the FWS wage surveys by 2002 NAICS codes:

Section 532.213—Industries included in regular appropriated fund wage surveys.

Section 532.221—Industries included in regular nonappropriated fund surveys.

Section 532.267—Special wage schedules for aircraft, electronic, and optical instrument overhaul and repair positions in Puerto Rico.

Section 532.279—Special wage schedules for printing positions.

Section 532.285—Special wage schedules for supervisors of negotiated rate Bureau of Reclamation employees.

Section 532.313—Private sector industries.

OPM has reviewed these regulations in light of OMB's NAICS revisions for 2007 and is proposing to add NAICS code 334515 (Instrument manufacturing for measuring and testing electricity and electrical signals) to the list of required NAICS codes in section 532.267 and three of the specialized industries (Electronics, Guided missiles, and Sighting and fire control equipment) in section 532.313 of title 5, Code of Federal Regulations. None of the other sections are affected by 2007 changes in NAICS codes. OPM is also proposing to replace the year “2002” with “2007” in the table titles of all applicable sections.

In addition, OPM is proposing to delete NAICS code 81299 (All other personal services) from the list of required NAICS codes in the artillery and combat vehicle specialized industry. NAICS code 81299 comprises establishments primarily engaged in providing personal services, such as astrology services, concierge services, dating services, and party planning services. This NAICS code was previously included by error.

The Federal Prevailing Rate Advisory Committee, the national labor-management committee responsible for advising OPM on matters concerning the pay of FWS employees, recommended by consensus that we adopt these changes.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Linda M. Springer,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

§ 532.213 [Amended]

2. In § 532.213, amend the table headings in both columns by replacing the year “2002” with “2007.”

§ 532.221 [Amended]

3. In § 532.221, amend the table headings in both columns by replacing the year “2002” with “2007.”

§ 532.267 [Amended]

4. In § 532.267(c)(1), amend the table headings in both columns by replacing the year “2002” with “2007” and insert NAICS code “334515” in the first column in numerical order and “Instrument manufacturing for measuring and testing electricity and electrical signals” in the second column.

§ 532.285 [Amended]

5. In § 532.285(c)(1), amend the table headings in both columns by replacing the year “2002” with “2007.”

§ 532.313 [Amended]

6. In § 532.313(a), amend the table as follows:

a. Replace the year “2002” with “2007” in the table headings in both columns;

b. Add NAICS code “334515” in the first column in numerical order and “Instrument manufacturing for measuring and testing electricity and electrical signals” in the second column to the list of required NAICS codes for the Electronics Specialized Industry, Guided Missiles Specialized Industry, and Sighting and Fire Control Equipment Specialized Industry; and

c. Remove NAICS code “81299” in the first column and “All other personal services” in the second column from the list of required NAICS codes for the Artillery and Combat Vehicle Specialized Industry.

[FR Doc. E8-657 Filed 1-16-08; 8:45 am]

BILLING CODE 6325-39-P